DEPARTMENT OF HEALTH AND HUMAN SERVICES

Administration for Children and Families

[OMB #0970-0446]

Proposed Information Collection Activity; TANF Expenditure Report, ACF-196R

AGENCY: Office of Family Assistance, Administration for Children and Families, HHS.

ACTION: Request for public comment.

SUMMARY: The Administration for Children and Families (ACF) is requesting a 3-year extension of the Temporary Assistance for Needy Families (TANF) Expenditure Report, Form ACF-196R (OMB #0970-0446, expiration 2/28/2021). ACF is reporting a change to remove certain guidance that was associated with an earlier ACF-196 report in order to devote the instructions to the singular ACF-196R report. In addition, ACF has clarified instructions where states have previously expressed confusion and has reorganized the format and chronology of section headers to better reflect the flow of the TANF reporting process.

DATES: Comments due within 60 days of publication. In compliance with the requirements of Section 3506(c)(2)(A) of the Paperwork Reduction Act of 1995, the Administration for Children and Families is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation (OPRE), 330 C Street SW, Washington, DC 20201, Attn: ACF Reports Clearance Officer. All requests, emailed or written, should be identified by the title of the information collection.

SUPPLEMENTARY INFORMATION:

Description: Grantees of the TANF program are required by statute to report financial data on a quarterly basis. Form ACF-196R is used by states administering the TANF program to report these quarterly expenditure data and to request quarterly grant funds. Failure to collect the data would seriously compromise the Office of Family Assistance and ACF's ability to monitor TANF expenditures and compliance with statutory requirements. These data are also needed to estimate outlays and to prepare reports and budget submissions for Congress.

Respondents: State agencies administering the TANF program (50 States and the District of Columbia).

Annual Burden Estimates
Instrument | Total number of respondents | Total number of responses per respondent | Average burden hours per response | Total burden hours | Annual burden hours
TANF Expenditure Report, Form ACF-196R | 51 | 4 | 14 | 2,856 | 952

Estimated Total Annual Burden Hours: 952.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Social Security Act, Section 409; 45 CFR 265.3-265.9.

John M. Sweet Jr.,
ACF/OPRE Certifying Officer.

[FR Doc. 2020-20900 Filed 9-21-20; 8:45 am]

BILLING CODE 4184-36-P